DEPARTMENT OF DEFENSE

Office of the Secretary

Base Closure and Realignment

AGENCY: Department of Defense, Office of Economic Adjustment.

ACTION: Notice.

SUMMARY: This Notice is provided pursuant to section 2905(b)(7)(B)(ii) of the Defense Base Closure and Realignment Act of 1990. It provides a partial list of military installations closing or realigning pursuant to the 2005 Defense Base Closure and Realignment (BRAC) Report. It also provides a corresponding listing of a successor Local Redevelopment Authority (LRA) for Riverbank Army Ammunition Plant, California recognized by the Secretary of Defense, acting through the Department of Defense Office of Economic Adjustment (OEA), as well as the point of contact, address, and telephone number for the successor LRA for this installation. Representatives of state and local governments, homeless providers, and other parties interested in the redevelopment of the installation should contact the person or organization listed. The following information will also be published simultaneously in a newspaper of general circulation in the area of the installation. There will be additional Notices providing this same information about LRAs for other closing or realigning installations where surplus government property is available as those LRAs are recognized by the OEA.

DATES: Effective Date: January 3, 2008.

FOR FURTHER INFORMATION CONTACT: Director, Office of Economic Adjustment, Office of the Secretary of Defense, 400 Army Navy Drive, Suite 200, Arlington, VA 22202-4704, (703) 604-6020.

Local Redevelopment Authorities (LRAs) for Closing and Realigning Military Installations

California

Installation Name: Riverbank Army Ammunition Plant.

LRA Name: City of Riverbank City Council, successor to City Council of Riverbank and the District 1 Board Supervisor of Stanislaus County.

Point of Contact: Ms. Debbie Olson, Economic Development Director, City of Riverbank.

Address: 6707 Third Street, Riverbank, CA 95367-2396.

Phone: (209) 863-7157.

Dated: December 21, 2007.
L.M. Bynum,
OSD Federal Register Liaison Officer, Department of Defense.

[FR Doc. 07-6260 Filed 1-2-08; 8:45 am]

BILLING CODE 5001-06-M